DEPARTMENT OF THE INTERIOR

U.S. Geological Survey

[GX14BA030AD0100]

Agency Information Collection Activities: Request for Comments

AGENCY: U.S. Geological Survey (USGS), Interior.

ACTION: Notice of revision of a currently approved information collection, (1028-0078).

SUMMARY: We (the U.S. Geological Survey) will ask Office of Management and Budget (OMB) to approve the information collection request (ICR) described below. To comply with the Paperwork Reduction Act of 1995 (PRA) and as part of our continuing efforts to reduce paperwork and respondent burden, we invite the general public and other Federal agencies to take this opportunity to comment on this ICR. This collection is scheduled to expire on October 31, 2014.

DATES: To ensure that your comments on this ICR are considered, OMB must receive them on or before November 26, 2014.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0078 North American Amphibian Monitoring Program'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0078 North American Amphibian Monitoring Program' in all correspondence.

FOR FURTHER INFORMATION CONTACT: Michael J. Adams, Forest and Rangeland Ecosystem Science Center, U.S. Geological Survey, 3200 SW Jefferson Way, Corvallis, OR 97331 (mail); (541) 750-1069 (fax); or mjadams@usgs.gov (email). You may also find information about this ICR at www.reginfo.gov.

SUPPLEMENTARY INFORMATION:

I. Abstract

This information collection pertains to volunteers who contribute their time to conduct frog call surveys at assigned survey routes for the North American Amphibian Monitoring Program. Volunteers use an on-line data entry system to submit data. This information is used by Agencies and organizations at the state, federal, and local levels. The information constitutes monitoring of amphibian populations, providing systematically collected information to enable managers in natural resource decision making. Responses are voluntary.

II. Data

OMB Control Number: 1028-0078.

Form Number: None.

Title: North American Amphibian Monitoring Program.

Type of Request: Revision of a currently approved information collection.

Respondent Obligation: None (participation is voluntary).

Frequency of Collection: 3 times per year.

Description of Respondents: General public; individual households.

Estimated Total Number of Annual Responses: 1600.

Estimated Time per Response: We estimate that it will take 3 hours per response.

Estimated Annual Burden Hours: 4800.

Estimated Reporting and Recordkeeping “Non-Hour Cost” Burden: The “non-hour cost” burden associated with this IC is primarily vehicle mileage, calculated at the federal standard rate of 56 cents per mile times the approximate distance of a survey route (15 miles). The total estimate is $8.40 per survey. Any new participants will also need to purchase a thermometer to record air temperature at $15 each.

Public Disclosure Statement: The PRA (44 U.S.C. 3501, et seq.) provides that an agency may not conduct or sponsor and you are not required to respond to a collection of information unless it displays a currently valid OMB control number. Until the OMB approves a collection of information, you are not obliged to respond.

Comments: On August 20, 2014, we published a Federal Register notice (79 FR 49335) announcing that we would submit this ICR to OMB for approval and soliciting comments. The comment period closed on October 20, 2014. We received two comments, both supported the renewal of this collection as helpful information for their state natural resources program.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask the OMB in your comment to withhold your personal identifying information from public review, we cannot guarantee that it will be done.

William Lellis,
Deputy Associate Director for Ecosystems.

[FR Doc. 2014-25479 Filed 10-24-14; 8:45 am]

BILLING CODE 4311-AM-P